DEPARTMENT OF LABOR

Occupational Safety and Health Administration

[Docket No. NRTL1-2001]

TUV Product Services GmbH, Expansion of Recognition

AGENCY: Occupational Safety and Health Administration (OSHA), Labor.

ACTION: Notice.

SUMMARY: This notice announces the Occupational Safety and Health Administration's final decision expanding the recognition of TUV Product Services GmbH (TUVPSG) as a Nationally Recognized Testing Laboratory under 29 CFR 1910.7.

DATES: The expansion of recognition becomes effective on December 13, 2005.

FOR FURTHER INFORMATION CONTACT: Office of Technical Programs and Coordination Activities, NRTL Program, Occupational Safety and Health Administration, U.S. Department of Labor, 200 Constitution Avenue, NW., Room N-3653, Washington, DC 20210, or phone (202) 693-2110.

SUPPLEMENTARY INFORMATION:

Notice of Final Decision

The Occupational Safety and Health Administration (OSHA) hereby gives notice of the expansion of recognition of TUV Product Services GmbH (TUVPSG) as a Nationally Recognized Testing Laboratory (NRTL). TUVPSG's expansion covers the use of additional test standards. OSHA's current scope of recognition for TUVPSG may be found in the following informational Web page: http://www.osha-slc.gov/dts/otpca/nrtl/tuvpsg.html.

OSHA recognition of an NRTL signifies that the organization has met the legal requirements in section 1910.7 of Title 29, Code of Federal Regulations (29 CFR 1910.7). Recognition is an acknowledgment that the organization can perform independent safety testing and certification of the specific products covered within its scope of recognition and is not a delegation or grant of government authority. As a result of recognition, employers may use products “properly certified” ¹ by the NRTL to meet OSHA standards that require testing and certification.

¹ Properly certified means, in part, that the product is labeled or marked with the NRTL's “registered” certification mark (i.e., the mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha-slc.gov/dts/otpca/nrtl/index.html.

TUVPSG submitted an application, dated September 18, 2003 (see Exhibit 10) to expand its recognition to include 5 additional test standards. The NRTL Program staff determined that each of these standards is an “appropriate test standard” within the meaning of 29 CFR 1910.7(c). Therefore, OSHA is approving these five test standards for the expansion. Following review of the application, OSHA requested certain additional information from TUVPSG and deferred action on the application pending receipt of this information. The NRTL adequately responded to that request prior to publication of the preliminary notice, permitting OSHA to resume processing of the application. In connection with this request, OSHA evaluated the NRTL's capability for the additional test standards during an on-site review of TUVPSG's NRTL facility, and the assessor recommended the expansion for the additional standards (see Exhibit 11). The preliminary notice announcing the expansion application was published in the Federal Register on May 18, 2005 (70 FR 28583). Comments were requested by June 2, but no comments were received in response to this notice.

The previous notices published by OSHA for TUVPSG's recognition covered an expansion of recognition, which became effective on April 22, 2003 (68 FR 19856).

You may obtain or review copies of all public documents pertaining to the TUVPSG application by contacting the Docket Office, Occupational Safety and Health Administration, U.S. Department of Labor, 200 Constitution Avenue, NW., Room N-2625, Washington, DC, 20210. Docket No. NRTL1-2001 contains all materials in the record concerning TUVPSG's recognition.

The current address of the TUVPSG facility already recognized by OSHA is: TUV Product Services GmbH, Ridlerstrasse 65, D-80339, Munich, Germany.

Final Decision and Order

NRTL Program staff has examined the application, the assessor's report, and other pertinent information. Based upon this examination and the assessor's recommendation, OSHA finds that TUVPSG has met the requirements of 29 CFR 1910.7 for expansion of its recognition, subject to the limitation and conditions listed below. Pursuant to the authority in 29 CFR 1910.7, OSHA hereby expands the recognition of TUVPSG, subject to the following limitation and conditions.

Limitation

OSHA limits the expansion of TUVPSG's recognition to testing and certification of products for demonstration of conformance to the test standards listed below. OSHA has determined that the standards meet the requirements for an appropriate test standard, within the meaning of 29 CFR 1910.7(c).

UL 201 Garage Equipment

UL 325 Door, Drapery, Gate, Louver and Window Operator and Systems

UL 696 Electric Toys

UL 697 Toy Transformers

UL 1029 High-Intensity-Discharge Lamp Ballasts

The designation and title of the above test standards were current at the time of the preparation of the notice of the preliminary finding.

OSHA's recognition of TUVPSG, or any NRTL, for a particular test standard is limited to equipment or materials (i.e., products) for which OSHA standards require third party testing and certification before use in the workplace. Consequently, an NRTL's scope of recognition excludes any product(s) falling within the scope of a test standard for which OSHA has no NRTL testing and certification requirements.

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Conditions

TUVPSG must also abide by the following conditions of the recognition, in addition to those already required by 29 CFR 1910.7:

OSHA must be allowed access to TUVPSG's facilities and records for purposes of ascertaining continuing compliance with the terms of its recognition and to investigate as OSHA deems necessary;

If TUVPSG has reason to doubt the efficacy of any test standard it is using under this program, it must promptly inform the test standard developing organization of this fact and provide that organization with appropriate relevant information upon which its concerns are based;

TUVPSG must not engage in or permit others to engage in any misrepresentation of the scope or conditions of its recognition. As part of this condition, TUVPSG agrees that it will allow no representation that it is either a recognized or an accredited Nationally Recognized Testing Laboratory (NRTL) without clearly indicating the specific equipment or material to which this recognition is tied, or that its recognition is limited to certain products;

TUVPSG must inform OSHA as soon as possible, in writing, of any change of ownership, facilities, or key personnel, and of any major changes in its operations as an NRTL, including details;

TUVPSG will meet all the terms of its recognition and will always comply with all OSHA policies pertaining to this recognition; and

TUVPSG will continue to meet the requirements for recognition in all areas where it has been recognized.

Signed at Washington, DC this 28th day of November, 2005.
Jonathan L. Snare,
Acting Assistant Secretary.

[FR Doc. E5-7261 Filed 12-12-05; 8:45 am]

BILLING CODE 4510-26-P